CIVIL RIGHTS COMMISSION

Sunshine Act Meeting Notice

AGENCY: United States Commission on Civil Rights.

ACTION: Notice of Commission public briefing, Subminimum Wages: Impacts on the Civil Rights of People with Disabilities.

DATES: Friday, November 15, 2019, 9:00 a.m. Eastern Time (ET).

ADDRESSES: Place: National Place Building, 1331 Pennsylvania Ave. NW, Suite 1150, Washington, DC 20245 (Entrance on F Street NW).

FOR FURTHER INFORMATION CONTACT: Brian Walch, (202) 376-8371; TTY: (202) 376-8116; publicaffairs@usccr.gov.

SUPPLEMENTARY INFORMATION: Pursuant to the Government in the Sunshine Act, 5 U.S.C. 552b, the U.S. Commission on Civil Rights will hold a public briefing to examine the exemption under the Fair Labor Standards Act—the section 14(c) waiver program—which permits employers to pay less than the minimum wage to individuals with disabilities. In April 2018, the U.S. Department of Labor reported that more than 1,800 employers held a waiver of minimum wage requirements, affecting at least some 150,000 workers. Reliable reports indicate that many employers with 14(c) certificates pay far below prevailing or minimum wage while segregating these employees from the non-disabled workforce. The Commission will investigate whether this violates the civil rights of people with disabilities. The Commission will analyze the use of the 14(c) waiver program, its effect on people with disabilities, and oversight by the Departments of Labor and Justice.

This briefing is open to the public. We will offer an open comment session in which members of the public will have an opportunity to address the Commission; detailed information, including on registering for a three-minute speaking slot, can be viewed here. Individuals may attend the briefing without the need to confirm attendance or RSVP.

The event will also live-stream. (Information subject to change.) There will also be a public call-in line (listen-only): 800-822-2024, conference ID: 8561700. If attending in person, we ask that you RSVP to publicaffairs@usccr.gov. Persons with disabilities who need accommodation should contact Pamela Dunston at 202-376-8105 or at access@usccr.gov at least seven business days before the date of the meeting.

The Commission welcomes the submission of additional material for consideration as we prepare our report; please submit to subminimumwages@usccr.gov no later than December 15, 2019. Stay abreast of updates at www.usccr.gov and on Twitter and Facebook.

Agenda

Introductory Remarks: Chair Catherine E. Lhamon: 9:00 a.m.-9:10 a.m.

Panel One: The Federal Government's Role: 9:10 a.m.-10:30 a.m.

Panel Two: Data Regarding Subminimum Wages and Competitive Integrated Employment: 10:40 a.m.-11:20 a.m.

Panel Three: The Nature of Existing 14(c) Programs: 11:30 a.m.-12:40 p.m.

Remarks by Former Pennsylvania Governor and U.S. Secretary of Homeland Security Tom Ridge: 12:45 p.m.-1:00 p.m.

Lunch break: 1:00 p.m.-2:00 p.m.

Panel Four: Transitioning from 14(c) Programs: 2:00 p.m.-3:10 p.m.

Panel Five: Reform to the 14(c) Program at the Federal Level: 3:20 p.m.-4:30 p.m.

Open Public Comment Session: 5:30 p.m.-6:30 p.m.

Adjourn: 6:30 p.m. (Adjournment time subject to change).

Dated: November 4, 2019.
David Mussatt,
Supervisory Chief, Regional Programs Unit.

[FR Doc. 2019-24353 Filed 11-4-19; 4:15 pm]

BILLING CODE 6335-01-P